DEPARTMENT OF THE INTERIOR

Fish and Wildlife Service

50 CFR Part 17

Endangered and Threatened Wildlife and Plants; Addition of White Abalone and the United States Distinct Vertebrate Population Segment of the Smalltooth Sawfish to the List of Endangered and Threatened Wildlife

AGENCY: Fish and Wildlife Service, Interior.

ACTION: Final rule.

SUMMARY: We, the Fish and Wildlife Service (Service), are adding two marine taxa to the List of Endangered and Threatened Wildlife (List) in accordance with the Endangered Species Act of 1973, as amended (16 U.S.C. 1531 et seq.) (Act). These two taxa are the white abalone (Haliotis sorenseni) and the United States Distinct Vertebrate Population Segment (DPS) of the smalltooth sawfish (Pristis pectinata). These amendments are based on previously published determinations by the National Marine Fisheries Service (NMFS), National Oceanic and Atmospheric Administration, Department of Commerce, which has jurisdiction for these species.

DATES: Effective date: This rule is effective November 16, 2005.

Applicability dates: The white abalone listing is applicable as of June 28, 2001. The United States DPS of the smalltooth sawfish listing is applicable as of May 1, 2003.

FOR FURTHER INFORMATION CONTACT: Marjorie Nelson, Branch of Listing, Endangered Species Program, U.S. Fish and Wildlife Service, 4401 N. Fairfax Drive, Mail Stop 420, Arlington, Virginia 22203 (703/358-2105).

SUPPLEMENTARY INFORMATION:

Background

In accordance with the Act and the Reorganization Plan No. 4 of 1970, NMFS has jurisdiction over these taxa. Under section 4(a)(2) of the Act, NMFS must decide whether a species under its jurisdiction should be classified as endangered or threatened. The Service is responsible for the actual amendment of the List in 50 CFR 17.11(h).

On May 5, 2000, NMFS published a proposed rule (65 FR 26167) to list the white abalone as endangered. During the public comment period for that proposed rule, NMFS received nine written comments. On May 29, 2001, NMFS published a final rule to list the white abalone as endangered (66 FR 29046). The listing was effective as of June 28, 2001. In that final rule, NMFS addressed all public comments received in response to the proposed rule.

On April 16, 2001, NMFS published a proposed rule to list the smalltooth sawfish as endangered on (66 FR 19414). During the 60-day public comment period, NMFS received 12 written comments on the proposed rule. On April 1, 2003, NMFS published a final rule to list the DPS of smalltooth sawfish in the United States as an endangered species (68 FR 15674). The listing was effective as of May 1, 2003. In that final rule, NMFS addressed all comments received in response to the proposed rule.

Because NMFS provided a public comment period on the proposed rules for these two taxa, and because this action of the Service to amend the List in accordance with the determination by NMFS is nondiscretionary, the Service has omitted the notice and public comment procedures of 5 U.S.C. 553(b) for this action.

For more information concerning these two listing determinations, please consult the respective rules published in the Federal Register.

Required Determinations

National Environmental Policy Act

The Service has determined that an Environmental Assessment, as defined under the authority of the National Environmental Policy Act of 1969, need not be prepared in connection with regulations adopted pursuant to section 4(a) of the Act. A notice outlining the Service's reasons for this determination was published in the Federal Register on October 25, 1983 (48 FR 49244).

Paperwork Reduction Act

The Service has examined this regulation under the Paperwork Reduction Act of 1995 and found it to contain no information collection requirements. We may not conduct or sponsor, and you are not required to respond to, a collection of information unless it displays a currently valid Office of Management and Budget (OMB) control number.

List of Subjects in 50 CFR Part 17

Endangered and threatened species, Export, Import, Reporting and recordkeeping requirements, Transportation.

Regulation Promulgation

Accordingly, part 17, subchapter B of chapter I, title 50 of the Code of Federal Regulations, is amended as set forth below:

PART 17—[AMENDED]

1. The authority citation for part 17 continues to read as follows:

Authority: 16 U.S.C. 1361-1407; 16 U.S.C. 1531-1544; 16 U.S.C. 4201-4245; Pub. L. 99-625, 100 Stat. 3500, unless otherwise noted.

2. Amend § 17.11 by adding the following, in alphabetical order under FISHES and CLAMS, respectively, to the List of Endangered and Threatened Wildlife:

§ 17.11 Endangered and threatened wildlife.

* * * * *

(h) * * *

Species: Common name | Species: Scientific name | Historic range | Vertebrate population where endangered or threatened | Status | When listed | Critical habitat | Special rules
* * * * * * *
Fishes
* * * * * * *
Sawfish, smalltooth | Pristis pectinata | North Atlantic (Mediterranean, U.S. Atlantic and Gulf of Mexico) and the Southwest Atlantic | U.S.A. (Gulf of Mexico from Texas to Florida and along the east coast from Florida to Cape Hatteras) | E | 748 | NA | NA
* * * * * * *
Clams
* * * * * * *
Abalone, white | Haliotis sorenseni | North America (West coast from Point Conception, CA, U.S.A., to Punta Abreojos, Baja California, Mexico) | NA | T | 748 | NA | NA
* * * * * * *

Dated: September 15, 2005.
Marshall P. Jones, Jr.,
Acting Director, U.S. Fish and Wildlife Service.

[FR Doc. 05-22624 Filed 11-15-05; 8:45 am]

BILLING CODE 3510-22-P